DEPARTMENT OF THE INTERIOR

Fish and Wildlife Service

[FWS-R8-ES-2011-N146; 1112-0000-81440-F2]

Kellaway Proposed Low-Effect Habitat Conservation Plan for the Morro Shoulderband Snail, San Luis Obispo County, CA

AGENCY: Fish and Wildlife Service, Interior.

ACTION: Notice of availability; request for comment.

SUMMARY: We, the U.S. Fish and Wildlife Service (Service), have received an application from Thomas R. Kellaway and Doris J. Redmon (applicants) for a 5-year incidental take permit under the Endangered Species Act of 1973, as amended (Act). The application addresses the potential for “take” of the Federally endangered Morro shoulderband snail (Helminthoglypta walkeriana) incidental to the construction and occupation of two single-family residences, one on each of two legal parcels occupied by the species in the community of Los Osos, San Luis Obispo County, California. The applicants would implement a conservation program to minimize and mitigate project activities as described in their low-effect habitat conservation plan (plan). We invite comments from the public on the application, which includes the Kellaway Low-Effect Habitat Conservation Plan for the Morro Shoulderband Snail (HCP), which has been determined to be eligible for a Categorical Exclusion under the National Environmental Policy Act of 1969, as amended (NEPA).

DATES: To ensure consideration, please send your written comments by August 15, 2011.

ADDRESSES: You may download a copy of the HCP, draft Environmental Action Statement, Low-Effect Screening Form, and related documents on the Internet at http://www.fws.gov/ventura/, or you may request documents by U.S. mail or phone (see below). Please address written comments to Diane K. Noda, Field Supervisor, Ventura Fish and Wildlife Office, U.S. Fish and Wildlife Service, 2493 Portola Road, Suite B, Ventura, CA 93003. You may alternatively send comments by facsimile to (805) 644-3958.

FOR FURTHER INFORMATION CONTACT: Julie M. Vanderwier, Fish and Wildlife Biologist, at the above address or by calling (805) 644-1766.

SUPPLEMENTARY INFORMATION:

Background

The Morro shoulderband (banded dune) snail was listed by the U.S. Fish and Wildlife Service as endangered on December 15, 1994 (59 FR 64613). Section 9 of the Act (16 U.S.C. 1531 et seq.) and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532). However, under section 10(a)(1)(B) of the Act, we may issue permits to authorize incidental take of listed species. “Incidental Take” is defined by the Act as take that is incidental to, and not the purpose of, carrying out of an otherwise lawful activity. Regulations governing incidental take permits for threatened and endangered species are, respectively, in the Code of Federal Regulations at 50 CFR 17.32 and 17.22. Issuance of an incidental take permit also must not jeopardize the existence of Federally listed fish, wildlife, or plant species.

However, take of listed plants is not prohibited under the Act unless such take would violate State law. As such, take of plants cannot be authorized under an incidental take permit. Plant species may be included on a permit in recognition of the conservation benefits provided them under a habitat conservation plan. All species included in the incidental take permit would receive assurances under our “No Surprises” regulations (50 CFR 17.22(b)(55) and 17.32(b)(5)). In addition to meeting other criteria, actions undertaken through implementation of the HCP must not jeopardize the continued existent of Federally listed plant or animal species.

The applicants seek an incidental take permit for direct impacts to 1.68 acres of coastal dune scrub, maritime chaparral, and ruderal habitat occupied by Morro shoulderband snail in association with the construction and occupation of a single-family residence on each of two existing parcels. The project is proposed for separate legal parcels of 5.08 acres and 0.45 acre, legally described as Assessor Parcel Numbers 074-022-042 and 074-483-052, respectively. Both are located between Seahorse Lane and San Leandro Court in the southwestern portion of the unincorporated community of Los Osos, San Luis Obispo County, California. The applicants are requesting a permit for take of Morro shoulderband snail that would result from the “Covered Activities” that include the construction and occupation of two single-family residences and habitat enhancement activities.

The applicants propose to minimize, and mitigate take of Morro shoulderband snail associated with the covered activities by fully implementing the plan. The project was redesigned to reduce the impact footprint such that known locations of live Morro shoulderband snail could be avoided. The following measures will be implemented to minimize the effects of the taking: (1) Pre-construction and construction monitoring surveys for Morro shoulderband snail will be conducted within the 1.68-acre impact area, (2) all identified individuals of Morro shoulderband snail will be relocated by an individual in possession of a current valid recovery permit for the species into the conservation easement area out of harm's way, (3) installation of protective fencing, and (4) development and presentation of a contractor and employee training program for Morro shoulderband snail. The following measures will be implemented to mitigate for unavoidable take: (1) Preservation in perpetuity of 3.83 acres of coastal dune scrub and maritime chaparral habitats occupied by Morro shoulderband snail in a conservation easement that will preclude any use not consistent with resource management, (2) enhancement of 0.24 acres of disturbed coastal dune scrub within the conservation easement to increase its value and function for Morro shoulderband snail, and (3) post-construction monitoring and maintenance of the habitat enhancement activities within conservation easement area for a period of 4 years to ensure its success. A Letter of Credit in the amount of $16,740 will be established to ensure that adequate funding is available to implement all of the minimization and mitigation measures contained in the plan.

In the proposed HCP, the applicants consider two alternatives to the proposed action: “No Action” and “Alternate Design.” Under the “No Action” alternative, current conditions would be maintained, the HCP for Morro shoulderband snail would not be implemented, and the Service would not issue an ITP. Under the “Alternate Design” alternative, the project would be redesigned to reduce take. Because the entire property contains coastal scrub that provides habitat for Morro shoulderband snail, it is not feasible to design the project to avoid take. Further reducing the footprint of the houses would not meet the client's needs and would not significantly reduce impacts to the species. For these reasons, this redesign alternative has been rejected.

We are requesting comments on our preliminary determination that the applicants' proposal will have a minor or negligible effect on the Morro shoulderband snail and that the plan qualifies as a low-effect HCP as defined by our Habitat Conservation Planning Handbook (November 1996). We base our determinations on three criteria: (1) Implementation of the proposed project as described in the HCP would result in minor or negligible effects on Federally listed, proposed, and/or candidate species and their habitats; (2) implementation of the HCP would result in minor negligible effects on other environmental values or resources; and (3) HCP impacts, considered together with those of other past, present, and reasonably foreseeable future projects, would not result in cumulatively significant effects. In our analysis of these criteria, we have made a preliminary determination that the approval of the HCP and issuance of an ITP qualify for categorical exclusions under the NEPA (42 U.S.C. 4321 et seq.), as provided by the Department of Interior Manual (516 DM 2 Appendix 2 and 516 DM 8); however, based upon our review of public comments that we receive in response to this notice, this preliminary determination may be revised.

Next Steps

We will evaluate the permit application, including the plan and comments we receive, to determine whether the application meets the requirements of Section 10(a) of the Act. We will also evaluate whether issuance of the ITP would comply with Section 7 of the Act by conducting an intra-Service Section 7 consultation for the plan.

Public Review

We provide this notice under section 10(c) of the Act and the NEPA public involvement regulations (40 CFR 1500.1(b), 1500.2(d), and 1506.6). We are requesting comments on our determination that the applicants' proposal will have a minor or negligible effect on the Morro shoulderband snail and that the plan qualifies as a “low-effect” HCP as defined by our Habitat Conservation Planning Handbook (November 1996). We will evaluate the permit application, including the plan and comments we receive, to determine whether the application meets the requirements of section 10(a) of the Act. We will use the results of our intra-Service consultation, in combination with the above findings, in our final analysis to determine whether or not to issue the permits. If the requirements are met, we will issue a permit to the applicants for the incidental take of Morro shoulderband snail. We will make the final permit decision no sooner than 30 days after the date of this notice.

Public Comments

If you wish to comment on the permit applications, plans, and associated documents, you may submit comments by any one of the methods in ADDRESSES.

Public Availability of Comments

Before including your address, phone number, e-mail address, or other personal identifying information in your comment, you should be aware that your entire comment—including your personal identifying information—may be made publicly available at any time. While you can ask us in your comment to withhold your personal identifying information from public view, we cannot guarantee that we will be able to do so.

Authority: We provide this notice under section 10 of the Act (16 U.S.C. 1531 et seq.) and NEPA regulations (40 CFR 1506.6).

Dated: July 11, 2011.
Diane K. Noda,
Field Supervisor, Ventura Fish and Wildlife Office, Ventura, California.

[FR Doc. 2011-17829 Filed 7-14-11; 8:45 am]

BILLING CODE 4310-55-P